NATIONAL ARCHIVES AND RECORDS ADMINISTRATION

36 CFR Part 1200

RIN 3095-AB19

Official Seals and Logos

AGENCY: National Archives and Records Administration (NARA).

ACTION: Proposed rule.

SUMMARY: The National Archives and Records Administration (NARA) is proposing to modify its regulations on the use of official NARA seals by the public and other Federal agencies by extending the regulations to apply to the use of official NARA logos. This part applies to the public and other Federal agencies.

DATES: Comments are due by April 20, 2004.

ADDRESSES: NARA invites interested persons to submit comments on this proposed rule. Comments may be submitted by any of the following methods:

• Mail: Send comments to: Regulation Comments Desk (NPOL), Room 4100, Policy and Communications Staff, National Archives and Records Administration, 8601 Adelphi Road, College Park, MD 20740-6001.

• Fax: Submit comments by facsimile transmission to: 301-837-0319.

• E-mail: Send comments to http://www.regulations.gov. You may also comment via e-mail to comments@nara.gov. See the SUPPLEMENTARY INFORMATION for details.

FOR FURTHER INFORMATION CONTACT: Kim Richardson at telephone number 301-837-2902 or fax number 301-837-0319.

SUPPLEMENTARY INFORMATION: NARA has three official seals, which are primarily used to authenticate records in NARA's custody. NARA also has a number of official logos, which we use to represent our major programs, products, and services. For example, we have an ongoing exhibit entitled “American Originals” which features original historical documents, and we have an official “American Originals” logo that represents this exhibit. In addition to the official logos that represent our major programs, products, and services, each of our Presidential libraries has an official logo.

Though the official NARA seals and logos are primarily reserved for NARA use, if certain conditions are met, the public and other Federal agencies may request to use the seals and logos with NARA's permission.

We are proposing to extend the regulations to apply to the official NARA logos because our existing regulations only cover the three official NARA seals.

Information Collection Subject to the Paperwork Reduction Act

This proposed rule modifies the existing information collection in § 1200.8, the written request, by expanding coverage to include official NARA logos, not just official NARA seals. The information collection in § 1200.8 is subject to the Paperwork Reduction Act. Under this Act, no persons are required to respond to a collection of information unless it displays a valid OMB control number. The control number for the existing information collection is 3095-0052. NARA invites comments on the proposed changes to the information collection. Comments should be addressed to NARA and OMB (see ADDRESSES).

The change to the information collection in § 1200.8 is designed to assist NARA in determining whether to approve requests to use our official logos. It affects the public and other Federal agencies that are requesting to use our official logos and seals. For the seals, we have estimated that we receive one request each from five respondents per year. For the logos, we also estimate that we will receive one request each from five respondents per year. The respondent burden to provide the information will be 20 minutes per request, for a total burden of three hours and 20 minutes. This is an increase of one hour and 40 minutes over the burden in the previously approved information collection.

E-mail Comments

Please submit e-mail comments within the body of your e-mail message or attach comments avoiding the use of any form of encryption. Please also include “Attn: 3095-AB19” and your name and return address in your Internet message. If you do not receive a confirmation that we have received your email message, contact the Regulation Comment Desk at 301-837-2902.

This proposed rule is not a significant regulatory action for the purposes of Executive Order 12866 and has not been reviewed by the Office of Management and Budget. As required by the Regulatory Flexibility Act, I certify that this rule will not have a significant impact on a substantial number of small entities. This regulation does not have any federalism implications.

List of Subjects in 36 CFR Part 1200

Seals and insignia.

For the reasons set forth in the preamble, NARA proposes to amend part 1200 of title 36, Code of Federal Regulations, as follows:

PART 1200—OFFICIAL SEALS

1. The authority citation for part 1200 is revised to read as follows:

Authority: 18 U.S.C. 506, 701, and 1017; 44 U.S.C. 2104(e), 2116(b), 2302.

2. Amend § 1200.1 by adding the definition of “NARA Logo” and revising the definition of “Replica or reproduction” to read as follows:

§ 1200.1 Definitions.

* * * * *

NARA logo means a name, trademark, service mark, or symbol used by NARA in connection with its programs, products, or services.

* * * * *

Replica or reproduction means a copy of an official seal or NARA logo displaying the form and content.

Subpart B—How Are NARA's Official Seals and Logos Designed and Used?

3. Revise the heading of subpart B to read as set forth above.

4. Add § 1200.7 to subpart B to read as follows:

§ 1200.7 What are NARA logos and how are they used?

(a) NARA's official logos include, but are not limited to, those illustrated as follows:

(1) The Records Center Program;

BILLING CODE 7515-01-P

(2) The National Historical Publications and Records Commission;

(3) American Originals;

(4) Electronic Records Archives;

(5) The Archival Research Catalog;

(6) The Archives Library Information Center;

(7) Presidential Libraries; and

(8) Federal Register publications.

(i) Electronic Code of Federal Regulations.

(ii) Regulations.gov and FedReg.gov web sites.

(iii) Federal Register paper editions; and

(iv) Code of Federal Regulations paper edition.

BILLING CODE 7515-01-C

(b) Other official NARA logos. For inquiries on other official NARA logos, contact the Office of General Counsel (NGC). Send written inquiries to the Office of General Counsel (NGC), Room 3110, 8601 Adelphi Rd., College Park, MD 20740-6001.

(c) NARA uses its logos for official business which includes but is not limited to:

(1) Exhibits;

(2) Publicity and other materials associated with a one-time or recurring NARA event or activity;

(3) NARA Web sites (Intranet and Internet);

(4) Officially approved internal and external publications; and

(5) Presentations.

(d) NARA logos may be used by the public and other Federal agencies for events or activities co-sponsored by NARA, but only with the approval of the Archivist. See subpart C for procedures to request approval for use.

Subpart C—Procedures for the Public To Request and Use NARA Seals and Logos

5. Revise the heading of subpart C to read as set forth above.

6. Amend § 1200.8 by revising the heading, introductory text, paragraphs (a)(2), (a)(3), and (a)(4), and paragraph (c) to read as follows:

§ 1200.8 How do I request to use the official seals and logos?

You may only use the official seals and logos if NARA approves your written request. Follow the procedures in this section to request authorization.

(a) * * *

(2) Which of the official seals and/or logos you want to use and how each is going to be displayed. Provide a sample of the document or other material on which the seal(s) and/or logo(s) would appear, marking the sample in all places where the seal(s) and/or logo(s) would be displayed;

(3) How the intended use of the official seal(s) and/or logo(s) is connected to your work with NARA on an event or activity (example: requesting to use the official NARA seal(s) and/or logo(s) on a program brochure, poster, or other publicity announcing a co-sponsored symposium or conference.); and

(4) The dates of the event or activity for which you intend to display the seal(s) and/or logo(s).

* * * * *

(c) The OMB control number 3095-0052 has been assigned to the information collection contained in this section.

7. Amend § 1200.10 by revising paragraph (b) as follows:

§ 1200.10 What are NARA's criteria for approval?

* * * * *

(b) Seals and logos will not be used on any article or in any manner that reflects unfavorably on NARA or endorses, either directly or by implication, commercial products or services, or a requestor's policies or activities.

8. Amend § 1200.12 by revising the introductory text to read as follows:

§ 1200.12 How does NARA notify me of the determination?

NARA will notify you by mail of the final decision, usually within 3 weeks from the date we receive your request. If NARA approves your request, we will send you a camera-ready copy of the official seal(s) and/or logo(s) along with an approval letter that will:

* * * * *

9. Amend § 1200.14 by revising the heading and paragraphs (a), (d), and (e) to read as follows:

§ 1200.14 What are NARA's conditions for the use of the official seals and logos?

* * * * *

(a) Use the official seals and/or logos only for the specific purpose for which approval was granted;

* * * * *

(d) Do not change the official seals and/or logos themselves. They must visually and physically appear as NARA originally designed them, with no alterations.

(e) Only use the official seal(s) and/or logo(s) for the time period designated in the approval letter (example: for the duration of a conference or exhibit).

Subpart D—Penalties for Misuse of NARA Seals and Logos

10. Revise the heading of Subpart D to read as set forth above.

11. Revise § 1200.16 to read as follows:

§ 1200.16 Will I be penalized for misusing the official seals and logos?

(a) Seals. (1) If you falsely make, forge, counterfeit, mutilate, or alter official seals, replicas, reproductions or embossing seals, or knowingly use or possess with fraudulent intent any altered seal, you are subject to penalties under 18 U.S.C. 506.

(2) If you use the official seals, replicas, reproductions, or embossing seals in a manner inconsistent with the provisions of this part, you are subject to penalties under 18 U.S.C. 1017 and to other provisions of law as applicable.

(b) Logos. If you use the official logos, replicas or reproductions, of logos in a manner inconsistent with the provisions of this part, you are subject to penalties under 18 U.S.C. 701.

Dated: February 12, 2004.
John W. Carlin,
Archivist of the United States.

[FR Doc. 04-3573 Filed 2-19-04; 8:45 am]

BILLING CODE 7515-01-P